FEDERAL MARITIME COMMISSION

[Docket No. 15-03]

John T. Barbour t/d/b/a Barbour Auto Group; Barbour Auto Sales; Barbour Shipping; and Barbour Shipping and Transportation Inc.—Possible Violations of the Shipping Act of 1984; Order of Investigation and Hearing

AGENCY: Federal Maritime Commission.

ACTION: Notice of Order of Investigation and Hearing.

DATES: The Order of Investigation and Hearing was served May 27, 2015.

SUPPLEMENTARY INFORMATION: On May 27, 2015, the Federal Maritime Commission instituted an Order of Investigation and Hearing entitled John T. Barbour t/d/b/a Barbour Auto Group; Barbour Auto Sales; Barbour Shipping; and Barbour Shipping and Transportation Inc.—Possible Violations of Sections 8 and 19 of the Shipping Act. Acting pursuant to Section 11 of the Shipping Act, 46 U.S.C. 41302, that investigation is instituted to determine:

(1) Whether John T. Barbour, t/d/b/a Barbour Auto Group, Barbour Auto Sales, Barbour Shipping, and Barbour Shipping and Transportation Inc. violated sections 8 and 19 of the Shipping Act, 46 U.S.C. 40501, 40901, and 40902, by acting as a NVOCC without a license, filing evidence of financial security, or keeping open for public inspection a tariff containing its rates, charges, rules and practices; (2) in the event violations of the Shipping Act are found, whether civil penalties should be assessed against Barbour, and in what amount; and (3) whether appropriate cease and desist orders should be entered.

The Order may be viewed in its entirety at http://www.fmc.gov/15-03.

Authority: 46 U.S.C. 41302.

Karen V. Gregory,
Secretary.

[FR Doc. 2015-13157 Filed 6-1-15; 8:45 am]

BILLING CODE 6731-AA-P